DEPARTMENT OF TRANSPORTATION

Federal Aviation Administration

14 CFR Part 95

[Docket No. 31471; Amdt. No. 570]

IFR Altitudes; Miscellaneous Amendments

AGENCY: Federal Aviation Administration (FAA), Department of Transportation (DOT).

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, February 23, 2023.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., STB Annex, Bldg. 26, Room 217, Oklahoma City, OK 73099. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on January 24, 2023.
Thomas J. Nichols,
Aviation Safety, Flight Standards Service, Manager, Standards Section, Flight Procedures & Airspace Group, Flight Technologies and Procedures Division.

Adoption of the Amendment

Accordingly, pursuant to the authority delegated to me by the Administrator, part 95 of the Federal Aviation Regulations (14 CFR part 95) is amended as follows effective at 0901 UTC, June 03, 2010.

PART 95—IFR ALTITUDES

1. The authority citation for part 95 continues to read as follows:

Authority: 49 U.S.C. 106(g), 40103, 40113, and 14 CFR 11.49(b)(2).

2. Part 95 is amended to read as follows:

Revisions to IFR Altitudes and Changeover Point
[Amendment 570 effective date February 23, 2023]
From | To | MEA
Color Routes
§ 95.5 Green Federal Airway G15 is Amended to Delete
ST MARYS, AK NDB | ANVIK, AK NDB | 4000
ANVIK, AK NDB | TAKOTNA RIVER, AK NDB | *9000
* 6000—MOCA
* 7000—GNSS MEA
§ 95.5 Green Federal Airway G17 is Amended to Delete
WAINWRIGHT VILLAGE, AK NDB | ATQASUK, AK NDB | * 1600
* 1100—MOCA
§ 95.5 Green Federal Airway G18 is Amended to Delete
HOTHAM, AK NDB | POINT LAY, AK NDB | * 10000
* 6000—MOCA | COP 096 HHM
POINT LAY, AK NDB | ATQASUK, AK NDB COP 050 PIZ | 2300
§ 95.4 Green Federal Airway G7 is Amended to Delete
GAMBELL, AK NDB/DME | FORT DAVIS, AK NDB | 3000
FORT DAVIS, AK NDB | NORTON BAY, AK NDB | * 5000
* 4200—MOCA
§ 95.4 Green Federal Airway G9 is Amended to Delete
OSCARVILLE, AK NDB | ZEKEG, AK FIX
NE BND |  | * 6000
SW BND |  | * 3000
* 2100—MOCA
ZEKEG, AK FIX | CAIRN MOUNTAIN, AK NDB | 6000
§ 95.10 Amber Federal Airway A2 is Amended to Delete
U.S. CANADIAN BORDER | NABESNA, AK NDB | * 8400
* 6700—MOCA
NABESNA, AK NDB | DELTA JUNCTION, AK NDB | 8000
§ 95.10 Amber Federal Airway A4 is Amended to Delete
EVANSVILLE, AK NDB | ANAKTUVUK PASS, AK NDB | * 10000
* 8300—MOCA
§ 95.10 Amber Federal Airway A5 is Amended to Delete
AMBLER, AK NDB | EVANSVILLE, AK NDB | * 7500
* 6600—MOCA
§ 95.10 Amber Federal Airway A6 is Amended to Delete
ST MARYS, AK NDB | NORTH RIVER, AK NDB | 5000
§ 95.20 Red Federal Airway R1 is Amended to Delete
ST PAUL ISLAND, AK NDB/DME | GARRS, AK FIX | * 4600
* 2700—MOCA
GARRS, AK FIX | CHINOOK, AK NDB | 4600
§ 95.2 Red Federal Airway R51 is Amended to Delete
SUMNER STRAIT, AK NDB | SITKA, AK NDB | 7000
§ 95.6 Blue Federal Airway B26 is Amended to Delete
CHENA, AK NDB | YUKON RIVER, AK NDB | 7000
§ 95.6 Blue Federal Airway B37 is Amended to Delete
SUMNER STRAIT, AK NDB | ELEPHANT, AK NDB | * 7000
* 6400—MOCA
ELEPHANT, AK NDB | SPARL, AK FIX | * 6000
* 5000—MOCA
* 5000—GNSS MEA
§ 95.60 Blue Federal Airway B4 is Amended to Delete
UTOPIA CREEK, AK NDB/DME | EVANSVILLE, AK NDB | * 8000
* 6200—MOCA
EVANSVILLE, AK NDB | YUKON RIVER, AK NDB | * 8000
* 6600—MOCA
§ 95.60 Blue Federal Airway B7 is Amended to Delete
CAPE NEWENHAM, AK NDB/DME | OSCARVILLE, AK NDB | 4600
§ 95.6 Blue Federal Airway B79 is Amended to Delete
U.S. CANADIAN BORDER | NICHOLS, AK NDB | 5000
§ 95.60 Blue Federal Airway B8 is Amended to Delete
TIN CITY, AK NDB/DME | SHISHMAREF, AK NDB | 4000

From MAA | To | MEA
§ 95.3000 Low Altitude RNAV Routes
§ 95.3209 RNAV Route T209 is Amended by Adding
TBERT, GA WP | SPONG, GA FIX
1800 | 17500
SPONG, GA FIX | DOVER, GA FIX
2000 | 17500
DOVER, GA FIX | MILEN, GA FIX
1900 | 17500
MILEN, GA FIX | BEANS, GA FIX
2000 | 17500
BEANS, GA FIX | WANSA, SC WP
2300 | 17500
WANSA, SC WP | BLANE, SC FIX
2000 | 17500
BLANE, SC FIX | LUKES, SC FIX
2300 | 17500
LUKES, SC FIX | HRTWL, SC WP
2400 | 17500
HRTWL, SC WP | REEDY, SC FIX
2400 | 17500
REEDY, SC FIX | PETON, SC FIX
3000 | 17500
PETON, SC FIX | DUNKE, SC FIX
2900 | 17500
DUNKE, SC FIX | ILEYO, SC WP
2700 | 17500
ILEYO, SC WP | * UNMAN, SC FIX
2900 | 17500
* 4800—MCA | UNMAN, SC FIX, N BND
UNMAN, SC FIX | STYLZ, NC WP
6200 | 17500
is Amended to Delete
EHEJO, GA FIX | NASDE, GA WP
2000 | 17500
NASDE, GA WP | YASLU, GA WP
2000 | 17500
YASLU, GA WP | JAMTA, GA WP
2000 | 17500
JAMTA, GA WP | COLLIERS, SC VORTAC
2500 | 17500
§ 95.3224 RNAV Route T224 is Amended by Adding
COLIN, VA FIX | SHLBK, MD WP
* 5000 | 11000
* 1600—MOCA
SHLBK, MD WP | QUENS, MD WP
1800 | 17500
QUENS, MD WP | PRNCZ, MD WP
1700 | 17500
PRNCZ, MD WP | SMYRNA, DE VORTAC
1800 | 17500
SMYRNA, DE VORTAC | BRIEF, NJ FIX
2000 | 17500
BRIEF, NJ FIX | JIIMS, NJ WP
1800 | 17500
JIIMS, NJ WP | LEBVE, NJ FIX
1800 | 17500
LEBVE, NJ FIX | COYLE, NJ VORTAC
1900 | 17500
COYLE, NJ VORTAC | DIXIE, NJ FIX
1900 | 17500
DIXIE, NJ FIX | KENNEDY, NY VOR/DME
2000 | 17500
KENNEDY, NY VOR/DME | KEEPM, NY FIX
2000 | 17500
KEEPM, NY FIX | CALVERTON, NY VOR/DME
2000 | 17500
CALVERTON, NY VOR/DME | KEYED, NY FIX
1900 | 17500
KEYED, NY FIX | VIKKY, NY FIX
1800 | 17500
VIKKY, NY FIX | FLIBB, CT FIX
1700 | 17500
FLIBB, CT FIX | YODER, CT FIX
1900 | 17500
YODER, CT FIX | KURTY, CT FIX
2100 | 17500
KURTY, CT FIX | YANTC, CT WP
2600 | 17500
YANTC, CT WP | JEWIT, CT FIX
2400 | 17500
JEWIT, CT FIX | FOSTY, RI FIX
2500 | 17500
FOSTY, RI FIX | WOONS, RI FIX
2400 | 17500
WOONS, RI FIX | MILIS, MA FIX
2000 | 17500
MILIS, MA FIX | BOSTON, MA VOR/DME
2300 | 17500
§ 95.3239 RNAV Route T239 is Amended by Adding
PCANN, GA WP | SHANY, GA FIX
2000 | 17500
SHANY, GA FIX | TYGRR, AL WP
2300 | 17500
TYGRR, AL WP | MILER, AL FIX
2000 | 17500
Is Amended to Delete
PECAN, GA VOR/DME | SHANY, GA FIX
2000 | 17500
SHANY, GA FIX | EUFAULA, AL VORTAC
2300 | 17500
EUFAULA, AL VORTAC | MILER, AL FIX
2000 | 17500
Is Amended to Read in Part
MILER, AL FIX | KENTT, AL FIX
2400 | 17500
§ 95.3286 RNAV Route T286 is Amended by Adding
FONIA, ND FIX | DICKINSON, ND VORTAC
* 5000 | 17500
DICKINSON, ND VORTAC | NEXRU, ND FIX
* 4600 | 17500
NEXRU, ND FIX | HAYNI, ND FIX
* 4700 | 17500
HAYNI, ND FIX | JELRO, SD FIX
* 4800 | 17500
* 4300—MOCA
JELRO, SD FIX | BFFLO, SD FIX
* 4900 | 17500
* 4400—MOCA
BFFLO, SD FIX | JORNO, SD FIX
* 4600 | 17500
JORNO, SD FIX | RAPID CITY, SD VORTAC
* 5100 | 17500
GRAND ISLAND, NE VOR/DME | HTHWY, NE WP
* 3600 | 17500
HTHWY, NE WP | ROBINSON, KS DME
* 3100 | 17500
Is Amended to Delete
GRAND ISLAND, NE VOR/DME | PAWNEE CITY, NE VORTAC
* 3600 | 17500
PAWNEE CITY, NE VORTAC | ROBINSON, KS DME
* 3100 | 17500
§ 95.3291 RNAV Route T291 is Amended by Adding
HARCUM, VA VORTAC | COLIN, VA FIX
1900 | 17500
COLIN, VA FIX | SHLBK, MD WP
* 5000 | 11000
* 1600—MOCA
SHLBK, MD WP | LOUIE, MD FIX
* 5000 | 11000
* 1600—MOCA
LOUIE, MD FIX | GRACO, MD FIX
* 5000 | 11000
* 1500—MOCA
GRACO, MD FIX | * BAABS, MD WP
* 5000 | 11000
* 2000—MCA | BAABS, MD WP, N BND
* 1600—MOCA
BAABS, MD WP | VINNY, PA FIX
2700 | 11000
VINNY, PA FIX | GRAMO, PA FIX
3200 | 11000
GRAMO, PA FIX | HARRISBURG, PA VORTAC
5000 | 11000
Is Amended to Delete
LOUIE, MD FIX | BAABS, MD WP
* 5000 | 11000
* 1800—MOCA
BAABS, MD WP | HARRISBURG, PA VORTAC
* 5000 | 11000
* 3000—MOCA
Is Amended to Read in Part
HARRISBURG, PA VORTAC | MORTO, PA FIX
3600 | 17500
MORTO, PA FIX | * SELINSGROVE, PA VOR/DME
3300 | 17500
* 3800—MCA | SELINSGROVE, PA VOR/DME, NE BND
SELINSGROVE, PA VOR/DME | MILTON, PA VORTAC
3800 | 17500
MILTON, PA VORTAC | MEGSS, PA FIX
4000 | 17500
MEGSS, PA FIX | LAAYK, PA FIX
4800 | 17500
LAAYK, PA FIX | LEDIE, NY WP
4700 | 17500
LEDIE, NY WP | DELANCEY, NY VOR/DME
4900 | 17500
§ 95.3292 RNAV Route T292 is Amended by Adding
LYNRD, AL WP | ANTUH, AL WP
2000 | 17500
MOVIL, AL WP | DAYVS, AL WP
2500 | 17500
DAYVS, AL WP | VLKNN, AL WP
2500 | 17500
Is Amended to Delete
SEMMES, AL VORTAC | ANTUH, AL WP
2000 | 17500
MOVIL, AL WP | BROOKWOOD, AL VORTAC
2500 | 17500
BROOKWOOD, AL VORTAC | VLKNN, AL WP
2500 | 17500
§ 95.3295 RNAV Route T295 is Amended by Adding
POORK, VA WP | KREGG, VA WP
2000 | 17500
KREGG, VA WP | HOUKY, VA WP
1900 | 17500
HOUKY, VA WP | TAPPA, VA FIX
1900 | 17500
TAPPA, VA FIX | COLIN, VA FIX
1900 | 17500
COLIN, VA FIX | SHLBK, MD WP
* 5000 | 11000
* 1600—MOCA
SHLBK, MD WP | LOUIE, MD FIX
* 5000 | 11000
* 1600—MOCA
LOUIE, MD FIX | GRACO, MD FIX
* 5000 | 11000
* 1500—MOCA
GRACO, MD FIX | BAABS, MD WP
* 5000 | 11000
* 1600—MOCA
Is Amended to Delete
LOUIE, MD FIX | BAABS, MD WP
* 5000 | 11000
* 1800—MOCA
Is Amended to Read in Part
BAABS, MD WP | LANCASTER, PA VOR/DME
* 5000 | 11000
* 2200—MOCA
§ 95.3315 RNAV Route T315 is Amended by Adding
JARLO, WV WP | MONTS, WV FIX
4000 | 17500
MONTS, WV FIX | LAFOR, WV FIX
5000 | 17500
LAFOR, WV FIX | SHANE, WV WP
5700 | 17500
SHANE, WV WP | VUTCU, WV WP
5900 | 17500
VUTCU, WV WP | TILFO, WV WP
5600 | 17500
TILFO, WV WP | PEEBE, WV FIX
5300 | 17500
PEEBE, WV FIX | CASTE, VA FIX
6100 | 17500
CASTE, VA FIX | DBRAH, VA WP
6100 | 17500
DBRAH, VA WP | SPNKS, VA WP
5400 | 17500
SPNKS, VA WP | KONRD, VA WP
3700 | 17500
KONRD, VA WP | MATTO, VA WP
3600 | 17500
MATTO, VA WP | STAFD, VA WP
* 2800 | 17500
* 2300—MOCA
STAFD, VA WP | CRUMB, VA FIX
2200 | 17500
CRUMB, VA FIX | FLAT ROCK, VA VORTAC
2200 | 17500
FLAT ROCK, VA | VORTAC WAVES, VA WP
2600 | 17500
WAVES, VA WP | TAPPA, VA FIX
2100 | 17500
TAPPA, VA FIX | COLIN, VA FIX
1900 | 17500
COLIN, VA FIX | SHLBK, MD WP
* 5000 | 11000
* 1600—MOCA
SHLBK, MD WP | QUENS, MD WP
1800 | 17500
QUENS, MD WP | PRNCZ, MD WP
1700 | 17500
PRNCZ, MD WP | CHOPS, MD FIX
1800 | 17500
CHOPS, MD FIX | COSHA, DE WP
1800 | 17500
COSHA, DE WP | ATWEL, DE FIX
1800 | 17500
ATWEL, DE FIX | DONIL, DE FIX
1700 | 17500
DONIL, DE FIX | LEEAH, NJ FIX
1700 | 17500
LEEAH, NJ FIX | TUBER, NJ FIX
1800 | 17500
TUBER, NJ FIX | ATLANTIC CITY, NJ VORTAC
1800 | 17500
ATLANTIC CITY, NJ VORTAC | PANZE, NJ FIX
2100 | 17500
PANZE, NJ FIX | DIXIE, NJ FIX
1900 | 17500
DIXIE, NJ FIX | KENNEDY, NY VOR/DME
2000 | 17500
KENNEDY, NY VOR/DME | KEEPM, NY FIX
2000 | 17500
KEEPM, NY FIX | TRANZ, NY FIX
2000 | 17500
TRANZ, NY FIX | PUGGS, NY FIX
2000 | 17500
PUGGS, NY FIX | EEGOR, CT WP
1800 | 17500
EEGOR, CT WP | DWAIN, CT FIX
2100 | 17500
DWAIN, CT FIX | SEALL, CT FIX
2400 | 17500
SEALL, CT FIX | SNIVL, CT FIX
2500 | 17500
SNIVL, CT FIX | HARTFORD, CT VOR/DME
2600 | 17500
§ 95.3320 RNAV Route T320 is Added to Read
GILFF, VA WP | CAVDI, MD WP 2000 | 17500
CAVDI, MD WP | DAILY, MD FIX
1900 | 17500
DAILY, MD FIX | VAALI, MD WP
1900 | 17500
VAALI, MD WP | TUNDR, MD WP
1700 | 17500
TUNDR, MD WP | BILIT, MD FIX
1800 | 17500
BILIT, MD FIX | CHOPS, MD FIX
1800 | 17500
CHOPS, MD FIX | WNSTN, NJ WP
* 2000 | 17500
* 1500—MOCA
WNSTN, NJ WP | AVALO, NJ FIX
1700 | 17500
AVALO, NJ FIX | BRIGS, NJ FIX
2000 | 17500
BRIGS, NJ FIX | MANTA, NJ FIX
* 2500 | 17500
* 1300—MOCA
MANTA, NJ FIX | BEADS, NY FIX
* 2500 | 17500
* 1300—MOCA
BEADS, NY FIX | ORCHA, NY WP
1900 | 17500
ORCHA, NY WP | BOROS, NY FIX
2000 | 17500
BOROS, NY FIX | GROTON, CT VOR/DME
1900 | 17500
GROTON, CT VOR/DME | YANTC, CT WP
* 2300 | 17500
* 1800—MOCA
YANTC, CT WP | MOGUL, CT FIX
2300 | 17500
MOGUL, CT FIX | BLATT, CT FIX
2500 | 17500
BLATT, CT FIX | GRAYM, MA FIX
* 2800 | 17500
* 2300—MOCA
GRAYM, MA FIX | GARDNER, MA VOR/DME
3000 | 17500
§ 95.3325 RNAV Route T325 is Amended by Adding
RAMRD, KY WP | RENRO, KY WP
* 4500 | 17500
* 2400—MOCA
Is Amended to Delete
BOWLING GREEN, KY DME | RENRO, KY WP
* 4500 | 17500
* 2400—MOCA
§ 95.3356 RNAV Route T356 is Amended by Adding
TWIRK, MD WP | * BRILA, MD WP
#2600 | 17500
* 5300—MCA | BRILA, MD WP, SE BND
#3700 MCA | TWIRK, MD WP, SE BND
BRILA, MD WP | * WOOLY, MD FIX
2600 | 17500
* 6000—MCA WOOLY, MD FIX, SE BND
ODESA, MD FIX | * APEER, MD WP
* 4000 | 17500
* 4000—MCA | APEER, MD WP, S BND
* 1700—MOCA
APEER, MD WP | REESY, PA WP
2000 | 17500
REESY, PA WP | FOLEZ, PA WP
2300 | 17500
FOLEZ, PA WP | PIKKE, PA WP
* 2700 | 17500
* 2200—MOCA
PIKKE, PA WP | BOYER, PA FIX
2800 | 17500
BOYER, PA FIX | * KERYN, PA FIX
3000 | 17500
* 2600—MCA | KERYN, PA FIX, SE BND
KERYN, PA FIX | * HWANG, PA FIX
2500 | 17500
* 2600—MCA | HWANG, PA FIX, NW BND
HWANG, PA FIX | RAVINE, PA VORTAC
3500 | 17500
RAVINE, PA VORTAC | SELINSGROVE, PA VOR/DME
3500 | 17500
SELINSGROVE, PA VOR/DME | * COVOB, PA FIX
3800 | 17500
* 4400—MCA | COVOB, PA FIX, NW BND
COVOB, PA FIX | * SWISS, PA FIX
4700 | 17500
* 4500—MCA | SWISS, PA FIX, SE BND
SWISS, PA FIX | FAVUM, PA FIX
4400 | 17500
FAVUM, PA FIX | WIGGZ, PA WP
4600 | 17500
Is Amended to Delete
ODESA, MD FIX | * ELUDE, MD FIX
* 4000 | 17500
* 4000—MCA | ELUDE, MD FIX, S BND
* 1800—MOCA
Is Amended to Read in Part
WOOLY, MD FIX | DROSA, MD WP
* 6000 | 17500
* 2100—MOCA
DROSA, MD WP | OBWON, MD WP
* 6000 | 17500
* 2500—MOCA
GATBY, MD FIX | ODESA, MD FIX
* 4000 | 17500
* 1500—MOCA
§ 95.3358 RNAV Route T358 is Amended to Read in Part
CPTAL, MD WP | TWIRK, MD WP
* 5000 | 17500
* 4300—MOCA
TWIRK, MD WP | MOYRR, MD WP
* 5000 | 17500
* 3200—MOCA
SWANN, MD FIX | SMYRNA, DE VORTAC
1800 | 17500
SMYRNA, DE VORTAC | AVALO, NJ FIX
1800 | 17500
§ 95.3360 RNAV Route T360 is Added to Read
SHANE, WV WP | FRETT, WV WP
6400 | 17500
* 6000—MCA | FRETT, WV WP, W BND
FRETT, WV WP | NATTS, WV FIX
5800 | 17500
NATTS, WV FIX | * BOOME, VA FIX
6500 | 17500
* 5600—MCA | BOOME, VA FIX, W BND
BOOME, VA FIX | * OBEPE, VA FIX
5400 | 17500
* 5900—MCA | OBEPE, VA FIX, SE BND
OBEPE, VA FIX | * ROMAN, VA FIX
6300 | 17500
* 5100—MCA | ROMAN, VA FIX, NW BND
ROMAN, VA FIX | BRAIL, VA FIX
4400 | 17500
BRAIL, VA FIX | * ARVON, VA FIX
2900 | 17500
* 2500—MCA | ARVON, VA FIX, NW BND
ARVON, VA FIX | WAVES, VA WP
2200 | 17500
§ 95.3398 RNAV Route T398 is Amended by Adding
RRORY, TX WP | MERIC, TX WP
2500 | 17500
MERIC, TX WP | SLOTH, TX WP
2200 | 17500
§ 95.3424 RNAV Route T424 is Added to Read
SMRRF, TN WP | KEYSE, TN FIX
3000 | 17500
KEYSE, TN FIX | * LAUNS, TN FIX
3600 | 17500
* 4300—MCA | LAUNS, TN FIX, E BND
LAUNS, TN FIX | * TMPSN, TN WP
5300 | 17500
* 5300—MCA | TMPSN, TN WP, W BND
TMPSN, TN WP | BUCKY, TN FIX
4700 | 17500
BUCKY, TN FIX | EDDDY, TN WP
3000 | 17500
EDDDY, TN WP | CRECY, TN WP
3200 | 17500
CRECY, TN WP | PENCE, TN FIX
3300 | 17500
PENCE, TN FIX | OTWAY, TN FIX
3400 | 17500
OTWAY, TN FIX | * TAKEN, TN FIX
3800 | 17500
* 4600—MCA | TAKEN, TN FIX, E BND
TAKEN, TN FIX | HORAL, TN WP
* 6700 | 17500
* 6700—MOCA
HORAL, TN WP | DAMAS, TN FIX
6700 | 17500
DAMAS, TN FIX | * STOVE, VA FIX
8000 | 17500
* 7200—MCA | STOVE, VA FIX, W BND
STOVE, VA FIX | SPEEL, VA FIX
6700 | 17500
SPEEL, VA FIX | * MAXME, VA FIX
5900 | 17500
* 5600—MCA | MAXME, VA FIX, W BND
MAXME, VA FIX | * DANCO, VA WP
5000 | 17500
* 4700—MCA | DANCO, VA WP, W BND
DANCO, VA WP | * BUFIY, VA FIX
4400 | 17500
* 5000—MCA | BUFIY, VA FIX, E BND
BUFIY, VA FIX | DBRAH, VA WP
5500 | 17500
§ 95.3426 RNAV Route T426 is Added to Read
DANCO, VA WP | * TABER, VA FIX
5600 | 17500
* 5300—MCA | TABER, VA FIX, W BND
TABER, VA FIX | * PIGGS, VA FIX
5200 | 17500
* 3900—MCA | PIGGS, VA FIX, NW BND
PIGGS, VA FIX | DUNCE, VA FIX
3300 | 17500
DUNCE, VA FIX | * JAVVA, VA FIX
2800 | 17500
* 2700—MCA | JAVVA, VA FIX, NW BND
JAVVA, VA FIX | MCDON, VA WP
2600 | 17500
§ 95.3437 RNAV Route T437 is Added to Read
SIROC, GA WP | BROUN, GA FIX
* 2100 | 17500
* 1600—MOCA
BROUN, GA FIX | HARPS, GA FIX
2300 | 17500
HARPS, GA FIX | KELER, GA FIX
1800 | 17500
KELER, GA FIX | TBERT, GA WP
1800 | 17500
TBERT, GA WP | DURBE, SC WP
2000 | 17500
DURBE, SC WP | CAYCE, SC WP
2000 | 17500
CAYCE, SC WP | BLOTS, SC FIX
2400 | 17500
BLOTS, SC FIX | ZUKUR, SC FIX
2300 | 17500
ZUKUR, SC FIX | CRLNA, NC WP
2500 | 17500
CRLNA, NC WP | MOPED, NC FIX
2600 | 17500
MOPED, NC FIX | OWALT, NC FIX
2700 | 17500
OWALT, NC FIX | JOTTA, NC FIX
3000 | 17500
JOTTA, NC FIX | * MEGXE, NC FIX
3800 | 17500
* 5600—MCA | MEGXE, NC FIX, N BND
MEGXE, NC FIX | DOILY, VA FIX
5900 | 17500
DOILY, VA FIX | DANCO, VA WP
5200 | 17500
DANCO, VA WP ZOOMS, WV FIX
6500 | 17500
§ 95.3439 RNAV Route T439 is Added to Read
PIGON, AL FIX | PICKS, AL FIX
* 2000 | 17500
PICKS, AL FIX | RABEC, AL WP
* 2000 | 17500
RABEC, AL WP | WALTY, AL FIX
* 2400 | 17500
WALTY, AL FIX | DAYVS, AL WP
* 2500 | 17500
DAYVS, AL WP | OAKGO, AL WP
* 2500 17500
OAKGO, AL WP | NEGEE, AL FIX
* 2400 | 17500
NEGEE, AL FIX | NULLS, AL WP
* * 2600 | 17500
* 3000—MCA | NULLS, AL WP, N BND
NULLS, AL WP | FOLSO, AL WP
* 3100 | 17500
FOLSO, AL WP | MARZZ, AL WP
* 2900 | 17500
MARZZ, AL WP | PNDAA, TN WP
* 2700 | 17500
PNDAA, TN WP | HITMN, TN WP
* 3000 | 17500
§ 95.3441 RNAV Route T441 is Added to Read
TROPP, SC WP | GRECI, SC FIX 1800 17500
GRECI, SC FIX | * ADCOM, SC FIX 1900 17500
* 2100—MCA | ADCOM, SC FIX, NW BND
ADCOM, SC FIX | CAYCE, SC WP
2200 | 17500
CAYCE, SC WP | WIDER, SC FIX
2000 | 17500
WIDER, SC FIX | BUBBA, SC FIX
2300 | 17500
BUBBA, SC FIX | WILLS, SC FIX
2000 | 17500
WILLS, SC FIX | UNARM, SC FIX
2300 | 17500
UNARM, SC FIX | BUILD, SC FIX
2400 | 17500
BUILD, SC FIX | * BURGG, SC WP
2700 | 17500
* 2900—MCA | BURGG, SC WP, NW BND
BURGG, SC WP | * OBURY, NC FIX
3100 | 17500
* 4900—MCA | OBURY, NC FIX, NW BND
OBURY, NC FIX | STYLZ, NC WP
6200 | 17500
STYLZ, NC WP | OZONE, NC FIX
6600 | 17500
OZONE, NC FIX | * RIGEL, NC FIX
6100 | 17500
* 6700—MCA | RIGEL, NC FIX, NW BND
RIGEL, NC FIX | * MUMMI, NC FIX
7000 | 17500
* 7100—MCA | MUMMI, NC FIX, NW BND
MUMMI, NC FIX | PUPDG, NC WP
7500 | 17500
PUPDG, NC WP | PENCE, TN FIX
7200 | 17500
§ 95.3445 RNAV Route T445 is Added to Read
WESTMINSTER, MD VORTAC | HARRISBURG, PA VORTAC
3800 | 17500
HARRISBURG, PA VORTAC | SELINSGROVE, PA VOR/DME
3800 | 17500
SELINSGROVE, PA VOR/DME | LYKOM, PA WP
4400 | 17500
LYKOM, PA WP | STUBN, NY WP
4900 | 17500
STUBN, NY WP | BEEPS, NY FIX
4500 | 17500
BEEPS, NY FIX | ROCHESTER, NY VOR/DME
3300 | 17500
ROCHESTER, NY VOR/DME | AIRCO, NY FIX
2500 | 17500
§ 95.3468 RNAV Route T468 is Added to Read
HILL CITY, KS VORTAC | KNSAS, KS WP
* 4500 | 17500
* 4000—MOCA
KNSAS, KS WP | KOPSY, KS FIX
* 4500 | 17500
* 3400—MOCA
KOPSY, KS FIX | STEEL, NE FIX
3600 | 17500
STEEL, NE FIX | LAMONI, IA VOR/DME
3400 | 17500
LAMONI, IA VOR/DME | LEWRP, MO WP
2900 | 17500
§ 95.3608 RNAV Route T608 is Amended by Adding
GARDNER, MA VOR/DME | * BRONC, MA FIX
3700 | 17500
* 2500—MCA | BRONC, MA FIX, W BND
BRONC, MA FIX | LOBBY, MA FIX
2300 | 17500
LOBBY, MA FIX | SOSYO, MA FIX
* 2400 | 17500
* 1900—MOCA
SOSYO, MA FIX | REVER, MA FIX
2100 | 17500
Is Amended to Delete
GARDNER, MA VOR/DME | GRAYM, MA FIX
3000 | 17500
GRAYM, MA FIX | BLATT, CT FIX
* 2800 | 17500
* 2300—MOCA
BLATT, CT FIX | MOGUL, CT FIX
2500 | 17500
MOGUL, CT FIX | YANTC, CT WP
2300 | 17500
§ 95.4000 High Altitude RNAV Routes
§ 95.4068 RNAV Route Q68 is Amended by Adding
SOPIE, TN FIX | RAMRD, KY WP
* 18000 | 45000
* 18000—GNSS MEA
* DME/DME/IRU MEA
RAMRD, KY WP | YOCKY, KY FIX
* 18000 | 45000
* 18000—GNSS MEA
* DME/DME/IRU MEA
Is Amended to Delete
SOPIE, TN FIX BOWLING GREEN, KY DME
* 18000 | 45000
* 18000—GNSS MEA
* DME/DME/IRU MEA
BOWLING GREEN, KY DME | YOCKY, KY FIX
* 18000 | 45000
* 18000—GNSS MEA
* DME/DME/IRU MEA
§ 95.4141 RNAV Route Q141 is Added to Read
HOUKY, VA WP | TAPPA, VA FIX
* 18000 | 45000
* 18000—GNSS MEA
* DME/DME/IRU MEA
TAPPA, VA FIX | HYTRA, MD WP
* 18000 | 45000
* 18000—GNSS MEA
* DME/DME/IRU MEA
HYTRA, MD WP | BLNTN, MD WP
* 18000 | 45000
* 18000—GNSS MEA
* DME/DME/IRU MEA
BLNTN, MD WP | NALES, DE FIX
* 18000 | 45000
* 18000—GNSS MEA
* DME/DME/IRU MEA
§ 95.4437 RNAV Route Q437 is Amended to Delete
LLUND, NY FIX | BIZEX, NY WP
* 18000 | 45000
* 18000—GNSS MEA
* DME/DME/IRU MEA
BIZEX, NY WP | BINGS, NY WP
* 18000 | 45000
* 18000—GNSS MEA
* DME/DME/IRU MEA
BINGS, NY WP | WARUV, NY WP
* 18000 | 45000
* 18000—GNSS MEA
* DME/DME/IRU MEA
WARUV, NY WP | SLANG, VT WP
* 18000 | 45000
* 18000—GNSS MEA
* DME/DME/IRU MEA

From | To | MEA
§ 95.6001 Victor Routes-U.S
§ 95.6046 VOR Federal Airway V46 is Amended to Read in Part
CALVERTON, NY VOR/DME | HAMPTON, NY VORTAC | #2000
#HAMPTON R-285 UNUSABLE, USE CALVERTON R-105.
§ 95.6050 VOR Federal Airway V50 is Amended to Delete
HASTINGS, NE VOR/DME | PAWNEE CITY, NE VORTAC | 4000
PAWNEE CITY, NE VORTAC | ST JOSEPH, MO VORTAC | 4000
§ 95.6067 VOR Federal Airway V67 is Amended to Delete
CHOO CHOO, TN VORTAC | SHELBYVILLE, TN VOR/DME | 4000
§ 95.6071 VOR Federal Airway V71 is Amended to Delete
TOPEKA, KS VORTAC | PAWNEE CITY, NE VORTAC | * 4000
* 2900—MOCA
PAWNEE CITY, NE VORTAC | LINCOLN, NE VORTAC | 3000
§ 95.6159 VOR Federal Airway V159 is Amended to Delete
EUFAULA, AL VORTAC | TUSKEGEE, AL VOR/DME | 2000
TUSKEGEE, AL VOR/DME | KENTT, AL FIX | * 2600
* 1900—MOCA
Is Am ended by Adding
EUFAULA, AL VORTAC | * KENTT, AL FIX | 2500
* 3800—MCA KENTT, AL FIX, NW BND
Is Amended to Read in Part
KENTT, AL FIX | VULCAN, AL VORTAC | 3800
§ 95.6185 VOR Federal Airway V185 is Amended to Delete
COLLIERS, SC VORTAC | GREENWOOD, SC VORTAC | 2400
GREENWOOD, SC VORTAC | * UNMAN, SC FIX | 3000
* 4000—MCA | UNMAN, SC FIX, N BND
UNMAN, SC FIX | SUGARLOAF MOUNTAIN, NC VORTAC | 6000
SUGARLOAF MOUNTAIN, NC VORTAC | MUMMI, NC FIX | 7000
MUMMI, NC FIX | SNOWBIRD, TN VORTAC | 8000
§ 95.6190 VOR Federal Airway V190 is Amended to Read in Part
PEAKS, AZ FIX | TEDDI, AZ FIX
| W BND | * 10000
| E BND | * 13000
* 11000—GNSS MEA
§ 95.6209 VOR Federal Airway V209 is Amended to Delete
GADSDEN, AL VOR/DME | * MENLA, AL FIX | * * 5000
* 5000—MCA | MENLA, AL FIX, SW BND
* * 3700—MOCA
MENLA, AL FIX | CHOO CHOO, TN VORTAC | 4000
§ 95.6216 VOR Federal Airway V216 is Amended to Delete
MANKATO, KS VORTAC | PAWNEE CITY, NE VORTAC | 3600
PAWNEE CITY, NE VORTAC | LAMONI, IA VOR/DME | 3400
§ 95.6218 VOR Federal Airway V218 is Amended to Read in Part
BEBEL, MN FIX | * SQEAK, MN FIX | 10000
* 10000—MCA | SQEAK, MN FIX, N BND
§ 95.6307 VOR Federal Airway V307 is Amended to Delete
EMPORIA, KS VORTAC | * ALMAS, KS FIX | 3300
* 5000—MCA | ALMAS, KS FIX, N BND
ALMAS, KS FIX | PAWNEE CITY, NE VORTAC | * 5000
* 3000—MOCA
PAWNEE CITY, NE VORTAC | OMAHA, IA VORTAC | 3000
§ 95.6356 VOR Federal Airway V356 is Amended to Delete
FIDLE, CO FIX | * ELORE, CO FIX | * * 16500
* 12400—MCA | ELORE, CO FIX, W BND
* * 15600—MOCA
§ 95.6568 VOR Federal Airway V358 is Amended to Read in Part
SAN ANTONIO, TX VORTAC | GUADA, TX FIX | * 4000
* 2900—MOCA
§ 95.6379 VOR Federal Airway V379 is Amended by Adding
DEALE, MD FIX | SMYRNA, DE VORTAC | 3000
Is Amended to Delete
NOTTINGHAM, MD VORTAC | JETTA, MD FIX | 1900
JETTA, MD FIX | * GRACO, MD FIX | * * 3000
* 10000—MRA
* * 1600—MOCA
§ 95.6505 VOR Federal Airway V505 is Amended to Read in Part
* SQEAK, MN FIX | BEBEL, MN FIX | 10000
* 10000—MCA | SQEAK, MN FIX, NW BND
§ 95.6541 VOR Federal Airway V541 is Amended to Delete
GADSDEN, AL VOR/DME | EDDIE, AL FIX | 3600
§ 95.6553 VOR Federal Airway V553 is Amended to Delete
SALINA, KS VORTAC | PAWNEE CITY, NE VORTAC | 3400
§ 95.6568 VOR Federal Airway V568 is Amended to Read in Part
CORPUS CHRISTI, TX VORTAC | THREE RIVERS, TX VORTAC | 2000
SAN ANTONIO, TX VORTAC | GUADA, TX FIX | * 4000
* 2900—MOCA
§ 95.6573 VOR Federal Airway V573 is Amended to Delete
BONHAM, TX VORTAC | SULPHUR SPRINGS, TX VOR/DME | 2500
SULPHUR SPRINGS, TX VOR/DME | TEXARKANA, AR VORTAC | 2000
§ 95.7001 JET Routes
§ 95.7064 JET Route J64 is Amended to Delete
HILL CITY, KS VORTAC | PAWNEE CITY, NE VORTAC
18000 | 45000
PAWNEE CITY, NE VORTAC | LAMONI, IA VOR/DME
18000 | 45000
§ 95.7130 JET Route J130 is Amended to Delete
MC COOK, NE VOR/DME | PAWNEE CITY, NE VORTAC
18000 | 41000
§ 95.7192 JET Route J192 is Amended to Delete
GOODLAND, KS VORTAC | PAWNEE CITY, NE VORTAC
18000 | 45000
PAWNEE CITY, NE VORTAC | IOWA CITY, IA VOR/DME
18000 | 45000

Airway segment: From | Airway segment: To | Changeover points: Distance | Changeover points: From
§ 95.8003 VOR Federal Airway Changeover Point V159 is Amended To Add Changeover Point
EUFAULA, AL VORTAC | VULCAN, AL VORTAC | 52 | EUFAULA.
§ 95.8005 JET Routes Changeover Point J130 is Amended to Delete Changeover Point
MC COOK, NE VOR/DME | PAWNEE CITY, NE VORTAC | 72 | MC COOK.

[FR Doc. 2023-01633 Filed 1-27-23; 8:45 am]

BILLING CODE 4910-13-P